CONSUMER PRODUCT SAFETY COMMISSION

Sunshine Act Meeting

Time and Date: Thursday, January 24, 2008; 2 p.m.

Place: Room 410, Bethesda Towers, 4330 East West Highway, Bethesda, Maryland.

Status: Closed to the Public.

Matters to be Considered:

Compliance Status Report

The Commission staff will brief the Commission on the status of compliance matters.

For a recorded message containing the latest agenda information, call (301) 504-7948.

Contact Person for More Information: Todd A. Stevenson, Office of the Secretary, U.S. Consumer Product Safety Commission, 4330 East West Highway, Bethesda, MD 20814 (301) 504-7923.

Dated: January 15, 2008.
Todd A. Stevenson,
Secretary.

[FR Doc. 08-245 Filed 1-17-08; 2:08 am]

BILLING CODE 6355-01-M